DEPARTMENT OF THE INTERIOR

[FWS-R4-ES-2023-N062; FVHC98220410150-XXX-FF04H00000]

Deepwater Horizon Natural Resource Damage Assessment Open Ocean Trustee Implementation Group Final Restoration Plan 3 and Environmental Assessment: Birds and Finding of No Significant Impact

AGENCY: Department of the Interior.

ACTION: Notice of availability.

SUMMARY: This notice announces that the Deepwater Horizon (DWH) natural resource Trustees for the Open Ocean Trustee Implementation Group (Open Ocean TIG, or TIG) have prepared and are making available to the public the Final Restoration Plan 3 and Environmental Assessment: Birds (Final RP/EA) and Finding of No Significant Impact (FONSI). The Final RP/EA proposes alternatives to help restore birds injured by the DWH oil spill. The Final RP/EA evaluates a reasonable range of project alternatives under the Oil Pollution Act (OPA) and the OPA Natural Resource Damage Assessment regulations, and the National Environmental Policy Act (NEPA) and its implementing regulations, and selects seven projects for funding and implementation. A no action alternative is also evaluated pursuant to NEPA.

ADDRESSES: Obtaining Documents: You may view and download the Final RP/EA and FONSI at https://www.gulfspillrestoration.noaa.gov/restoration-areas/open-ocean. You may also request a CD-ROM containing the Final RP/EA and FONSI (see FOR FURTHER INFORMATION CONTACT).

FOR FURTHER INFORMATION CONTACT: Nanciann Regalado, at nanciann_regalado@fws.gov or 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Deepwater Horizon (DWH) natural resource Trustees for the Open Ocean Trustee Implementation Group (Open Ocean TIG, or TIG) have prepared the Final Restoration Plan 3 and Environmental Assessment: Birds (Final RP/EA) and Finding of No Significant Impact (FONSI). The Final RP/EA proposes alternatives to help restore birds injured by the DWH oil spill. The Final RP/EA evaluates a reasonable range of 11 project alternatives under the Oil Pollution Act (OPA) and the OPA Natural Resource Damage Assessment (NRDA) regulations (15 CFR 990), and the National Environmental Policy Act (NEPA) and its implementing regulations (40 CFR 1500-1508), and selects seven projects under the Birds Restoration Type for funding and implementation. A no action alternative is also evaluated pursuant to NEPA. The total estimated cost to implement the Open Ocean TIG's seven selected alternatives is approximately $33,280,000. The purpose of this notice is to inform the public of the availability of the Final RP/EA and FONSI.

Introduction

On April 20, 2010, the mobile offshore drilling unit Deepwater Horizon (DWH), which was drilling a well for BP Exploration and Production, Inc. (BP), experienced a significant explosion, fire, and subsequent sinking in the Gulf of Mexico, resulting in the release of millions of barrels of oil and other discharges into the gulf. Under the authority of OPA, designated Federal and State Trustees, acting on behalf of the public, assessed the injuries to natural resources, and the services they provide, and prepared the Deepwater Horizon Oil Spill Final Programmatic Damage Assessment Restoration Plan and Final Programmatic Environmental Impact Statement (Final PDARP/PEIS) and subsequent record of decision (ROD), which sets forth the governance structure and process for DWH restoration planning under the OPA NRDA regulations. On April 4, 2016, the United States District Court for the Eastern District of Louisiana entered a consent decree resolving civil claims by the Trustees against BP.

The Open Ocean TIG, which is composed of four Federal agencies—the Department of the Interior, the National Oceanic and Atmospheric Administration, the United States Environmental Protection Agency, and the United States Department of Agriculture—selects and implements restoration projects within the TIG's Restoration Area in accordance with the consent decree. The PDARP/PEIS, ROD, consent decree, and information on the DWH Trustees can be found at https://www.gulfspillrestoration.noaa.gov/restoration-planning/gulf-plan.

Background

On March 25, 2021, the Open Ocean TIG issued a notice of solicitation on the Gulf Spill Restoration website requesting project ideas for the Sturgeon and Birds Restoration Types. On March 11, 2022, the TIG announced they had reviewed project idea submissions and initiated drafting an RP/EA, which would include a reasonable range of restoration alternatives (projects) for the Birds Restoration Type.

The TIG released the Draft RP/EA for public review and comment on March 14, 2023, and published a notice of availability in the Federal Register (88 FR 15734). The comment period ran through April 28, 2023. To facilitate public understanding of the document, the TIG held webinars on March 28 and April 4, 2023, during which public comments were solicited. After the public review period closed, the TIG reviewed the comments received, prepared responses to those comments, finalized the plan, and prepared a FONSI.

Overview of the Open Ocean TIG's Final RP/EA

In the Final RP/EA, the Open Ocean TIG analyzes a reasonable range of 11 alternatives and, pursuant to NEPA, a no action alternative. The TIG's seven preferred alternatives, listed below, were selected for funding and implementation.

• Predator Removal and Seabird Nesting Colony Restoration at Mona Island

• Seabird Nesting Colony Reestablishment and Protection at Desecheo National Wildlife Refuge

• Seabird Nesting Colony Protection and Enhancement at Dry Tortugas National Park

• Seabird Bycatch Reduction in Northeast U.S. and Atlantic Canada Fisheries

• Northern Gannet Nesting Colony Restoration in Eastern Canada

• Common Tern Nesting Colony Restoration in Manitoba

• Invasive Goat Removal to Restore Seabird Nesting Habitat in St. Vincent and the Grenadines

Funding to implement the selected alternatives will come from the Birds restoration allocation. The total estimated cost to implement the seven selected alternatives is approximately $33,280,000. Restoration planning in the Open Ocean Restoration Area will continue.

Administrative Record

The Administrative Record for the Final RP/EA can be viewed electronically at https://www.doi.gov/deepwaterhorizon/adminrecord under folder 6.5.2.2.3.

Authority

The authority for this action is the Oil Pollution Act of 1990 (33 U.S.C. 2701 et seq.), its implementing Natural Resource Damage Assessment regulations found at 15 CFR 990, and the National Environmental Policy Act of 1969 (42 U.S.C. 4321 et seq.) and its implementing regulations found at 40 CFR 1500-1508.

Mary Josie Blanchard,
Department of the Interior, Director of Gulf of Mexico Restoration.

[FR Doc. 2023-19738 Filed 9-14-23; 8:45 am]

BILLING CODE 4333-15-P